Title 3—

The President

Proclamation 8695 of July 26, 2011

National Korean War Veterans Armistice Day, 2011

By the President of the United States of America

A Proclamation

On June 25, 1950, the Korean peninsula erupted in conflict, becoming the front line of an intensifying Cold War. For 3 years, our Armed Forces fought to help keep Korea free, suffering bitter reversals and winning stunning victories before the Military Armistice Agreement at Panmunjom secured the border near the 38th parallel. Together, American service members and allied forces were part of a generation that, in the words inscribed at their memorial in Washington, defended “a country they never knew and a people they never met.” Today, we express our unending gratitude to all who fought and died in pursuit of freedom and democracy for the Korean peninsula.

Our veterans’ courage and sacrifice have enabled the Republic of Korea to flourish as a strong and prosperous nation for over half a century. In the decades following the Armistice, the American and South Korean people have maintained a warm friendship, and our alliance is stronger than ever. We remember our common values and shared suffering during the Korean War, and we continue to work together towards advancing the cause of freedom and stability in East Asia and around the world.

Today, we honor the tens of thousands of service members who gave their last full measure of devotion to protect the people of the Republic of Korea. We also pay tribute to the generations of Americans who have guarded the border since hostilities concluded. It is our sacred duty as a grateful Nation to care for all those who have served, and to provide for our veterans and their families.

We will never forget that America owes its liberty, security, and prosperity to the heroic acts of our service members. We must also remember that their selfless sacrifices have had a profound impact on the promotion of freedom across the globe. On National Korean War Veterans Armistice Day, we recommit to supporting our venerable warriors and their families, and we pay our deepest respects to those who laid down their lives.

NOW, THEREFORE, I, BARACK OBAMA, President of the United States of America, by virtue of the authority vested in me by the Constitution and the laws of the United States, do hereby proclaim July 27, 2011, as National Korean War Veterans Armistice Day. I call upon all Americans to observe this day with appropriate ceremonies and activities that honor our distinguished Korean War Veterans.

IN WITNESS WHEREOF, I have hereunto set my hand this twenty-sixth day of July, in the year of our Lord two thousand eleven, and of the Independence of the United States of America the two hundred and thirty-sixth.

[FR Doc. 2011-19410

Filed 7-28-11; 8:45 am]

Billing code 3195-W1-P